DEPARTMENT OF ENERGY

Federal Energy Regulatory Commission

[Docket No. IC21-21-000]

Commission Information Collection Activities (FERC-516); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-516 (Electric Rate Schedules and Tariff Filings).

DATES: Comments on the collection of information are due June 28, 2021.

ADDRESSES: You may submit copies of your comments (identified by Docket No. IC21-21-000) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION:

Title: FERC-516, Electric Rate Schedules and Tariff Filings.

OMB Control No.: 1902-0096.

Type of Request: Three-year extension of the FERC-516 information collection requirements with no changes to the current reporting requirements.

Abstract: This notice for FERC-516 includes 11 components listed in the table below.¹ Section 205(c) of the Federal Power Act (FPA) requires that every public utility have all its jurisdictional rates and tariffs on file with the Commission and make them available for public inspection, within such time and in such form as the Commission may designate. Section 205(d) of the FPA requires that every public utility must provide notice to FERC and the public of any changes to its jurisdictional rates and tariffs, file such changes with FERC, and make them available for public inspection, in such manner as directed by the Commission. FPA section 205 specifies that all rates and charges, and related contracts and service conditions, for wholesale sales and transmission of energy in interstate commerce must be filed with the Commission and must be “just and reasonable”. In addition, FPA section 206 requires the Commission, upon complaint or its own motion, to modify existing rates or services that are found to be unjust, unreasonable, unduly discriminatory or preferential.

¹ This notice does not address the requirements in the Supplementary Notice of Proposed Rulemaking (NOPR) in Docket No. RM20-10. The Supplementary NOPR is available on FERC's eLibrary system (https://elibrary.ferc.gov/eLibrary/search) by searching Docket No. RM20-10.

Several rulemakings related to this information collection and its components have been summarized below.

In Order No. 745 (in Docket No. RM10-17), the Commission amended its regulations under the Federal Power Act (FPA). That amendment sought to ensure that when a demand response resource participating in an organized wholesale energy market administered by a Regional Transmission Organization (RTO) or Independent System Operator (ISO) has to demonstrate by a compliance filing that it has the capability to balance supply and demand as an alternative to a generation resource, and when dispatch of that demand response resource is cost-effective as determined by the net benefits test described in the final rule, that demand response resource must be compensated for the service it provides to the energy market at the market price for energy, referred to as the locational marginal price (LMP).² This approach for compensating demand response resources helps to ensure the competitiveness of organized wholesale energy markets and remove barriers to the participation of demand response resources, thus ensuring just and reasonable wholesale rates.

² The full text of the Final Rule is available on FERC's eLibrary system (https://elibrary.ferc.gov/eLibrary/search) by searching Docket No. RM10-17.

In Order 845 (in Docket No. RM11-7), the Commission revised its regulations to remedy undue discrimination in the procurement of frequency regulation in the organized wholesale electric markets and ensure that providers of frequency regulation receive just and reasonable and not unduly discriminatory or preferential rates. To remedy this undue discrimination, the Commission found that it is just and reasonable to require all RTOs and ISOs to modify their tariffs to provide for a two-part payment to frequency regulation resources.³ The compensation methods for regulation service in RTO and ISO markets failed to acknowledge the inherently greater amount of frequency regulation service being provided by faster-ramping resources. In addition, certain practices of some RTOs and ISOs resulted in economically inefficient economic dispatch of frequency regulation resources. By remedying these issues, the Commission removed unduly discriminatory and preferential practices from RTO and ISO tariffs and required the setting of just and reasonable rates. It specifically required RTOs and ISOs to compensate frequency regulation resources based on the actual service provided, including a capacity payment that includes the marginal unit's opportunity costs and a payment for performance that reflects the quantity of frequency regulation service provided by a resource when the resource is accurately following the dispatch signal.

³ The full text of the Final Rule is available on FERC's eLibrary system (https://elibrary.ferc.gov/eLibrary/search) by searching Docket No. RM11-7.

Order No. 764 (in Docket No. RM10-11), the Commission amended the pro forma Open Access Transmission Tariff (OATT) to remove unduly discriminatory practices and to ensure just and reasonable rates for Commission-jurisdictional services. Specifically, the Commission removed barriers to the integration of variable energy resources by requiring each public utility transmission provider to: (1) Offer intra-hourly transmission scheduling; and, (2) incorporate provisions into the pro forma Large Generator Interconnection Agreement requiring interconnection customers whose generating facilities are variable energy resources to provide meteorological and forced outage data to the public utility transmission provider for the purpose of power production forecasting.

In Order 676-G (in Docket No. RM05-5-020), the Commission amended its regulations at 18 CFR 38.2 (which establish standards for business practices and electronic communications for public utilities) to incorporate by reference updated business practice standards adopted by the Wholesale Electric Quadrant (WEQ) of the North American Energy Standards Board (NAESB) to categorize various products and services for demand response and energy efficiency and to support the measurement and verification of these products and services in organized wholesale electric markets. These standards provided common definitions and processes regarding demand response and energy efficiency products in organized wholesale electric markets where such products are offered. The standards also required each RTO and ISO to address in the RTO or ISO's governing documents the performance evaluation methods to be used for demand response and energy efficiency products. The standards facilitated the ability of demand response and energy efficiency providers to participate in organized wholesale electric markets, reducing transaction costs and providing an opportunity for more customers to participate in these programs, especially for customers that operate in more than one organized market.

In Order No. 676-H (in Docket No. RM05-5-022), the Commission revised its regulations to incorporate by reference, with certain enumerated exceptions, Version 003 of the Standards for Business Practices and Communication Protocols for Public Utilities adopted by the WEQ of NAESB as mandatory enforceable requirements. These standards updated NAESB's WEQ Version 002 and Version 002.1 Standards to reflect policy determinations made by the Commission in the Order Nos. 890, 890-A, 890-B and 890-C.⁴ In addition, the Commission listed informationally, as guidance, NAESB's Smart Grid Standards (WEQ-016 through WEQ-020) in Part 2 of the Commission's regulations. The Commission required public utilities and those entities with reciprocity tariffs to modify their open access transmission tariffs (OATTs) to include the WEQ standards that were incorporated by making a compliance filing.

⁴ Preventing Undue Discrimination and Preference in Transmission Service, Order No. 890, FERC Stats. & Regs. ¶ 31,241 (2007), order on reh'g, Order No. 890-A, FERC Stats. & Regs. ¶ 31,261 (2007), order on reh'g, Order No. 890-B, 123 FERC ¶ 61,299 (2008), order on reh'g and clarification, Order No. 890-C, 126 FERC ¶ 61,228 (2009) (Order No. 890-C). The Version 002 standards also included revisions made in response to Order No. 890.

In Order No. 819 (in Docket No. RM15-2), the Commission revised its regulations to foster competition in the sale of primary frequency response service. Specifically, the Commission amended its regulations governing market-based rates for public utilities pursuant to the FPA to permit the sale of primary frequency response service at market-based rates by sellers with market-based rate authority for sales of energy and capacity. The Commission found that a seller that already has market-based rate authority as of the effective date of the Final Rule is authorized as of that date to make sales of primary frequency response service at market-based rates.⁵ Such a seller was required to revise the third-party provider ancillary services provision of its market-based rate tariff to reflect that it wished to make sales of primary frequency response service at market-based rates. In order to reduce their administrative burden, the Commission permitted such sellers to wait to file this tariff revision until the next time they made a market-based rate filing with the Commission, such as a notice of change in status filing or a triennial update.

⁵ The full text of the Final Rule is available on FERC's eLibrary system (https://elibrary.ferc.gov/eLibrary/search) by searching Docket No. RM15-2.

In Order No. 842 (in Docket No. RM16-6-000), the Commission revised its regulations to require newly interconnecting large and small generating facilities, both synchronous and non-synchronous, to install, maintain, and operate equipment capable of providing primary frequency response as a condition of interconnection. To implement these requirements, the Commission modified the pro forma Large Generator Interconnection Agreement (LGIA) and the pro forma Small Generator Interconnection Agreement (SGIA). These changes were designed to address the potential reliability impact of the evolving generation resource mix, and to ensure that the relevant provisions of the pro forma LGIA and pro forma SGIA are just, reasonable, and not unduly discriminatory or preferential. Section 35.28(f)(1) of the Commission's regulations requires every public utility with a non-discriminatory OATT on file to also have a pro forma LGIA and pro forma SGIA on file with the Commission. Each public utility transmission provider that has a pro forma LGIA and/or pro forma SGIA within its OATT was required to submit a compliance filing that demonstrates that it meets the requirements set forth in the Final Rule within Docket No. RM16-6-000.

In Order 845 (in Docket No. RM17-8), the Commission amended the pro forma Large Generator Interconnection Procedures and the pro forma LGIA to improve certainty, promote more informed interconnection, and enhance interconnection processes. The reforms were intended to ensure that the generator interconnection process is just and reasonable and not unduly discriminatory or preferential. The Commission required all public utility transmission providers to submit compliance filings to adopt the requirements of the Final Rule (in Docket No. RM17-8), as revisions to the LGIP and LGIA in their OATTs.

In Order 864 (in Docket No. RM19-5), the Commission required public utility transmission providers with transmission formula rates under an OATT, a transmission owner tariff, or a rate schedule to revise those transmission formula rates to account for changes caused by the Tax Cuts and Jobs Act of 2017. The Commission required public utilities with transmission formula rates to include a mechanism in those transmission formula rates to deduct any excess accumulated deferred income taxes (ADIT) from or add any deficient ADIT to their rate bases. Public utilities with transmission formula rates were also required to incorporate a mechanism to decrease or increase their income tax allowances by any amortized excess or deficient ADIT, respectively. Finally, the Commission required public utilities with transmission to update their formula rates through a compliance filing to incorporate a new permanent worksheet into their transmission formula rates that will annually track information related to excess or deficient ADIT.

Estimate of Annual Burden: ⁶ The Commission estimates the average annual burden and cost ⁷ for FERC-516 as follows.⁸ The `annual no. of responses per respondent' have been rounded. The estimated total annual burden for this information collection has decreased due to the completion of several one-time filings. The one-time filings required in Order 845 (in Docket No. RM17-8), Order 755 (in Docket No. RM11-7), and Order 676-G (in Docket No. RM05-05-020) are complete. Because Order Nos. 845, 755, 676-G remain a one-time filing requirement for transmission organizations, the burden associated with this data collections will result only if a new transmission organization enters FERC jurisdiction. One response for one new transmission organization is being used as a placeholder for a possible application from such a new transmission organization with an organized electricity market.⁹

⁶ Burden is defined as the total time, effort, or financial resources expended by persons to generate, maintain, retain, or disclose or provide information to or for a Federal agency. For further explanation of what is included in the information collection burden, refer to 5 CFR part 1320.

⁷ The Commission staff estimates that the average respondent for this collection is similarly situated to the Commission, in terms of salary plus benefits. Based on FERC's 2020 annual average of $172,329 (for salary plus benefits), the average hourly cost is $83/hour.

⁸ The following currently approved one-time filings for FERC-516 are complete.

• The one-time total burden for Electric Rate Schedules and Tariffs in Docket No. RM17-8 was a total of 65,220 hours that was averaged over three years (65,220 ÷ 3 = 21,740 hours/year over three years).

• The one-time total burden for Electric Rate Schedules and Tariffs in Docket No. RM11-7 was a total of 5,500 hours that was averaged over three years (5,500 ÷ 3 = 1,833 hours/year over three years).

• The one-time total burden for Electric Rate Schedules and Tariffs in Docket No. RM05-05-020 was a total of 60 hours.

⁹ If a new RTO/ISO is formed, their tariff filings would be required by Order 845 (in Docket No. RM17-8), Order 755 (in Docket No. RM11-7), and Order 676-G (in Docket No. RM05-05-020).

FERC-516, Electric Rate Schedules and Tariff Filings
Requirements | Number of respondents | Annual number of responses per respondent | Total number of responses | Average burden & cost per response | Total annual burden hours & cost | Cost per respondent
| (1) | (2) | (1) x (2) = (3) | (4) | (3) * (4) = (5) | (5) / (1) = (5)
Electric Rates Schedules and Tariff Filings ¹⁰ | 1,230 | 3.63 | 4,469 | 103.27 hrs.; $8,571.41 | 461,514 hrs.; $38,305,631.29 | 31,142.79
Demand Response, RM10-17 (one-time and monthly filings) | 6 | 11.33 | 68 | 114.71 hrs.; $9,520.93 | 7,800.28 hrs.; $647,423.24 | 107,903.87
Frequency Regulation, RM11-7 (one-time tariff filing and system modification) ⁹ | 1 | 1 | 1 | 366.66 hrs.; $30,432.78 | 366.66 hrs.; $30,432.78 | 30,432.78
Variable Energy Resource Integration Rule (RM10-11), Voluntary Burden | 142 | 2.113 | 300 | 29.95 hrs.; $2,485.85 | 8,985 hrs.; $745,755 | 5,251.80
Variable Energy Resource Integration Rule, (RM10-11) Mandatory Burden | 294 | 1.9116 | 562 | 30.91 hrs.; $2,565.53 | 17,371.42 hrs.; $1,441,827.86 | 4,904.18
Tariff Filings in RM05-5-020 (one-time) ⁹ | 1 | 1 | 1 | 5 hrs.; $415 | 5 hrs.; $415 | 415
Tariff Filings in RM05-5-022 (one-time) | 132 | 3.63 | 132 | 6 hrs.; $498 | 792 hrs.; $65,736 | 498
Tariff Filings to Reflect Primary Frequency Response Services in MBR (Final Rule in RM15-2) | 1,585 | 0.1634 | 259 | 6 hrs.; $498 | 1,554 hrs.; $128,982 | 81.38
Electric Rate Schedules and Tariffs in RM16-6 | 74 | 1 | 74 | 10 hrs.; $830 | 740 hrs.; $61,420 | 830
Electric Rate Schedules and Tariffs in RM17-8 (ongoing) | 132 | 2.66 | 352 | 4 hrs.; $322 | 1,408 hrs.; $116,864 | 885.33
Electric Rate Schedules and Tariffs in RM17-8 (one-time) ⁹ | 1 | 1 | 1 | 49.41 hrs.; $4,101.03 | 49.41 hrs.; $4,101.03 | 4,101.03
RM19-5, one-time and ongoing | 106 | 1.66 | 177 | 13.57 hrs.; $1,126.31 | 2,401.89 hrs.; $199,356.87 | 1,880.73
Total Burden for FERC-516 |  |  | 6,396 |  | 502,987.66 hrs.; $41,747,945.07 | 188,326.88

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 22, 2021.
Kimberly D. Bose,
Secretary.

[FR Doc. 2021-08828 Filed 4-27-21; 8:45 am]

BILLING CODE 6717-01-P